DEPARTMENT OF LABOR

Employment and Training Administration

[NAFTA-05043]

Cooper Wiring Devices, Georgetown, SC; Amended Certification Regarding Eligibility To Apply for NAFTA Transitional Adjustment Assistance

In accordance with section 250(A), Subchapter D, Chapter 2, Title II, of the Trade Act of 1974 (19 U.S.C. 2273) the Department of Labor issued a Certification for NAFTA Transitional Adjustment Assistance on August 29, 2001, applicable to workers of Cooper Wiring Devices, Assembly Department, Georgetown, South Carolina. The notice was published in the Federal Register on September 11, 2001 (66 FR 47242).

At the request of the company, the Department reviewed the certification for workers of the subject firm. Findings show that the Department limited its certification coverage to workers of the subject firm's Assembly Department.

New company information shows that worker separations are scheduled and the remaining production of molding and wall plating performed on the molding machines and wall plate wrapping machines is shifting to Mexico. The entire plant will be closing by the end of 2002.

It is the intent of the Department to include “all workers” of Cooper Wiring Devices adversely affected by a shift in production of molding machines and wall plant wrapping machines to Mexico.

The Department is amending the certification determination to identify the worker group to read “all workers.”

The amended notice applicable to NAFTA-05043 is hereby issued as follows:

All workers of Cooper Wiring Devices, Georgetown, South Carolina who became totally or partially separated from employment on after June 26, 2000, through August 29, 2003, are eligible to apply for NAFTA-TAA under section 250 of the Trade Act of 1974.

Signed at Washington, DC this 8th day of March, 2002.
Linda G. Poole,
Certifying Officer, Division of Trade Adjustment Assistance.

[FR Doc. 02-9746 Filed 4-19-02; 8:45 am]

BILLING CODE 4510-30-M